DEPARTMENT OF HEALTH AND HUMAN SERVICES

Administration on Community Living

Proposed Information Collection Activity; Submission for OMB Review; Comment Request; Protection and Advocacy Annual Program Performance Report and Statement of Goals and Priorities

AGENCY: Office of Program Support, Administration on Intellectual and Developmental Disabilities, Administration on Disability, Administration on Community Living, HHS.

ACTION: Notice.

SUMMARY: The Administration on Disability is announcing that the proposed collection of information listed above has been submitted to the Office of Management and Budget (OMB) for review and clearance as required under the Paperwork Reduction Act of 1995.

DATES: Submit written comments on the collection of information by February 16, 2017.

ADDRESSES: Submit written comments on the collection of information by fax 202.395.5806 or by email to OIRA_submission@omb.eop.gov, Attn: OMB Desk Officer for ACL.

FOR FURTHER INFORMATION CONTACT: Clare Huerta, Administration on Community Living, Administration on Intellectual and Developmental Disabilities, Office of Program Support, 330 C Street SW., DC, Washington, DC 20201, by email: Clare.Huerta@acl.hhs.gov or by phone: (202) 795-7301.

SUPPLEMENTARY INFORMATION: In compliance with section 44 U.S.C. 3507, ACL has submitted the following proposed collection of information to OMB for review and clearance.

This notice seeks to collect comments on revisions to two existing data collections. The first is the Annual Protection and Advocacy Systems Program Performance Report (0985-0027). State Protection and Advocacy (P&A) Systems in each State and Territory provide individual legal advocacy, systemic advocacy, monitoring and investigations to protect and advance the rights of people with developmental disabilities, using funding administered by the Administration on Intellectual and Developmental Disabilities, Administration on Disability, Administration on Community Living, HHS. The Developmental Disabilities and Bill of Rights Act (the Act), 42 U.S.C. 15044 requires each P&A to annually prepare a Program Performance Report (PPR) that describes the activities and accomplishments of the system during the preceding fiscal year.

The Act also requires P&As to submit a Statement of Goals and Priorities (SGP) (0985-0034) for each coming fiscal year. P&As are required to annually report on “the activities, accomplishments, and expenditures of the system during the preceding fiscal year, including a description of the system's goals, the extent to which the goals were achieved, barriers to their achievement, the process used to obtain public input, the nature of such input, and how such input was used.”

To meet it statutory reporting requirements, P&As have used separate forms for submitting the annual PPR (0985-0027) and the SGP (0985-0034). The Department is proposing that the two be combined by creating a Protection and Advocacy Annual Program Performance Report and Statement of Goals and Priorities form. By combining the forms, P&As will have a reduced burden because they will only have to submit one annual report. The combined form will also allow federal reviewers to analyze patterns more readily between goals and priority setting and program performance.

The annual PPR and SGP are reviewed by federal staff for compliance and outcomes. Information in the PPRs and SGPs is analyzed to create a national profile of programmatic compliance, outcomes, and goals and priorities for P&A Systems for tracking accomplishments against goals and to formulate areas of technical assistance related to compliance with Federal requirements and program performance. Information collected in the unified report will inform AIDD of trends in P&A advocacy, collaboration with other federally-funded entities, and identify best practices for efficient use of federal funds.

Comments in Response to the 60 Day Federal Register Notice

A notice was published in the Federal Register in Vol. 81, No. 57592 on August 23, 2016, announcing that ACL was requesting approval of a data collection (ICR New). ACL received two comments expressing concern that the combination of the SGP and PPR reporting forms would reduce the overall oversight of the P&A program. ACL responds that, while the reporting forms are being combined, the content which the grantees are reporting remains the same, with the addition of more quantitative measures to support the qualitative data that the grantees provide every year. The addition of more quantitative measures will provide a fuller picture of how the programs are functioning. The combined PPR and SGP allow federal staff to review the same information from the programs in a streamlined format that reduces the need to reenter the same information multiple times. ACL does not plan to make any changes in the data collection based on these comments.

SUPPLEMENTARY INFORMATION: In compliance with the requirements of Section 506(c)(2)(A) of the Paperwork Reduction Act of 1995, the Administration on Community Living is soliciting public comment on the burden related to the information collection described above. The form is available at: http://www.acl.gov/Programs/AIDD/Program_Resource_Search/Results_PA.aspx.

Estimated Burden: The average burden for the 57 Protection and Advocacy Systems ⁱ was calculated based on consultations with selected States.

ⁱ This number includes the 50 States, District of Columbia, Puerto Rico and three Outlying Areas.

Annual Burden Estimates
Instrument | Number of respondents | Number of responses per respondent | Average burden hours per response | Total burden hours
Protection and Advocacy Annual Program Performance Report and Statement of Goals and Priorities | 57 | 1 | 75 | 4,275

Estimated Total Annual Burden Hours: 4,275.

Dated: January 10, 2017.
Edwin L. Walker,
Acting Administrator and Assistant Secretary for Aging.

[FR Doc. 2017-00880 Filed 1-13-17; 8:45 am]

BILLING CODE 4154-01-P